LEGAL SERVICES CORPORATION

Notice of Publication of Grant Assurances for LSC Grant Programs

AGENCY: Legal Services Corporation.

ACTION: Notice of publication of grant assurances for LSC grant programs.

SUMMARY: The Legal Services Corporation (“LSC”) is publishing grant assurances for the following LSC grant programs: 2014 Technology Initiative Grants commencing on or after October 1, 2014; 2014 Pro Bono Innovation Fund Grants commencing on or after October 1, 2014; and 2015 Basic Field Grants (including Basic Field—General, Basic Field—Migrant, and Basic Field—Native American) commencing on or after January 1, 2015. The grant assurances for each grant program delineate the responsibilities of the recipient pursuant to the provisions of the grant.

DATES: The grant assurances for each LSC grant program are effective upon commencement of the grant:

1. 2014 Technology Initiative Grants—commencing on or after October 1, 2014

2. 2014 Pro Bono Innovation Fund Grants—commencing on or after October 1, 2014

3. 2015 Basic Field Grants—commencing on or after January 1, 2015

ADDRESSES: Submit written questions or comments by mail, email, or fax to LSC Grant Assurances, Office of Program Performance, Legal Services Corporation, 3333 K Street NW., Washington, DC 20007; LSCGrantAssurances@lsc.gov; or (202) 337-6813 (fax). Comments may also be submitted online at http://www.lsc.gov/contact-us.

FOR FURTHER INFORMATION CONTACT: Reginald J. Haley, Office of Program Performance, haleyr@lsc.gov, (202) 295-1545.

SUPPLEMENTARY INFORMATION: The purpose of the grant assurances for each LSC grant program is to delineate the responsibilities of the recipient pursuant to the provisions of the grant. As a grant making agency created by Congress, LSC has grant assurances that are intended to reiterate and/or clarify the responsibilities and obligations already applicable through existing law and regulations and/or obligate the recipient to comply with specific additional requirements in order to effectuate the purposes of the Legal Services Corporation Act, as amended, and other applicable law.

The 2014 Technology Initiative Grants (“TIG”) Grant Assurances are available at http://tig.lsc.gov/grants/compliance. They will apply to TIGs commencing on or after October 1, 2014.

The 2014 Pro Bono Innovation Fund Grants (“PBIF Grants”) Grant Assurances are available at http://grants.lsc.gov/resources/reference-materials. They will apply to PBIF Grants commencing on or after October 1, 2014.

The 2015 Basic Field Grant Assurances are available at http://grants.lsc.gov/resources/reference-materials. They will apply to Basic Field Grants (including Basic Field—General, Basic Field—Migrant, and Basic Field—Native American) commencing on or after January 1, 2015.

Dated: September 25, 2014.
Atitaya Rok,
Staff Attorney.

[FR Doc. 2014-23277 Filed 9-30-14; 8:45 am]

BILLING CODE 7050-01-P